DEPARTMENT OF COMMERCE

International Trade Administration

Antidumping or Countervailing Duty Order, Finding, or Suspended Investigation; Advance Notification of Sunset Reviews

AGENCY: Import Administration, International Trade Administration, Department of Commerce.

ACTION: Notice of Upcoming Sunset Reviews.

Background

Every five years, pursuant to section 751(c) of the Tariff Act of 1930, as amended, the Department of Commerce (“the Department”) and the International Trade Commission automatically initiate and conduct a review to determine whether revocation of a countervailing or antidumping duty order or termination of an investigation suspended under section 704 or 734 would be likely to lead to continuation or recurrence of dumping or a countervailable subsidy (as the case may be) and of material injury.

FOR FURTHER INFORMATION CONTACT: Juanita Chen, AD/CVD Operations, Import Administration, International Trade Administration, U.S. Department of Commerce. 14th Street & Constitution Ave., NW, Washington, DC 20230; telephone (202) 482-1904.

Upcoming Sunset Reviews for August 2007

There are no Sunset Reviews scheduled for initiation in August 2007.

For information on the Department's procedures for the conduct of sunset reviews, See 19 CFR 351.218. This notice is not required by statute but is published as a service to the international trading community. Guidance on methodological or analytical issues relevant to the Department's conduct of Sunset Reviews is set forth in the Department's Policy Bulletin 98.3, “Policies Regarding the Conduct of Five-year (“Sunset”) Reviews of Antidumping and Countervailing Duty Orders;” Policy Bulletin, 63 FR 18871 (April 16, 1998) (“Sunset Policy Bulletin”). The Notice of Initiation of Five-year (“Sunset”) Reviews provides further information regarding what is required of all parties to participate in Sunset Reviews.

Dated: June 21 2007.
Stephen J. Claeys,
Deputy Assistant Secretary for Import Administration.

[FR Doc. E7-12760 Filed 6-29-07; 8:45 am]

BILLING CODE 3510-DS-S